DEPARTMENT OF JUSTICE

Notice of Lodging of Consent Decree Modification Under the Clean Water Act

In accordance with Department of Justice Policy, 28 U.S.C. 50.7, notice is hereby given that, on October 12, 2008, a proposed Modification of Consent Decree in United States, et al. v. City of Nashua, New Hampshire, Civil Action No. 1:05-cv-00376-PB, was lodged with the United States District Court for the District of New Hampshire.

In this action the United States, on behalf of the United States Environmental Protection Agency (“EPA”), filed a Complaint against the City of Nashua alleging violations of the Clean Water Act concerning the City's current or former combined sewer outfall (“CSO”) facilities. Under the terms of the Consent Decree, the City undertook the implementation of a CSO abatement plan with a completion date of August 2012. The mitigation measures are extensive, requiring completion of the separation of combined sanitary and storm water systems over a large section of the City; the design and construction of wet-weather bypass systems; the design and construction of new outfalls with screening and detention ponds in multiple locations; the design and construction of disinfection facilities; and substantial system-wide infrastructure improvements.

The proposed Consent Decree Modification requires the City to abide by the implementation compliance measures specified in the 2005 Consent Decree with the exception that the deadlines for the evaluation, design, and construction of compliance measures for CSOs 005/006 are extended to allow the study, design, and completion of construction of alternative compliance measures for CSOs 005/006 by August 1, 2015, instead of February 2011. These modifications are required due to higher levels of storm water flow discovered by field testing and resulting substantial increased costs under the current design of the 005/006 facilities.

The Department of Justice will receive, for a period of thirty (30) days from the date of this publication, comments relating to the Modification of Consent Decree. Comments should be addressed to the Assistant Attorney General, Environment and Natural Resources Division, and either e-mailed to pubcomment-ees.endrd@usdoj.gov or mailed to P.O. Box 7611, U.S. Department of Justice, Washington, DC 20044-7611, and should refer to United States, et al. v. City of Nashua, New Hampshire, D.J. Ref. 90-5-1-1-08193.

The Consent Decree Modification may be examined at the Office of the United States Attorney, District of New Hampshire, 53 Pleasant Street, Fourth Floor, Concord, New Hampshire 03301, and the U.S. Environmental Protection Agency, Region I (New England Region), One Congress Street, Boston, Massachusetts 02114. During the public comment period, the Consent Decree Modification may also be examined on the following Department of Justice Web site, http://www.usdoj.gov/enrd/Consent_Decrees.html. A copy of the Decree Modification may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost) payable to the U.S. Treasury or, if by e-mail or fax, forward a check in that amount to the Consent Decree Library at the stated address.

Ronald Gluck,
Assistant Section Chief, Environmental Enforcement Section, Environment and Natural Resources Div.

[FR Doc. E8-26313 Filed 11-4-08; 8:45 am]

BILLING CODE 4410-15-P